DEPARTMENT OF HOMELAND SECURITY

Federal Emergency Management Agency

[Docket ID FEMA-2013-0002; Internal Agency Docket No. FEMA-B-1354]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arkansas: Washington | City of Fayetteville (13-06-1658P) | The Honorable Lioneld Jordan, Mayor, City of Fayetteville, 113 West Mountain Street, Fayetteville, AR 72701 | Development Services Building, 125 West Mountain Street, Fayetteville, AR 72701 | http://www.msc.fema.gov/lomc | February 11, 2014 | 050216
Georgia: Fayette | Unincorporated areas of Fayette County (13-04-0476P) | The Honorable Steve Brown, Chairman, Fayette County Board of Commissioners, 140 Stonewall Avenue West, Suite 100, Fayetteville, GA 30214 | Fayette County Engineering Department, 140 Stonewall Avenue West, Suite 203, Fayetteville, GA 30214 | http://www.bakeraecom.com/index.php/georgia/fayette-3/ | October 10, 2013 | 130432
New Jersey: Cape May | City of Wildwood (13-02-0099P) | The Honorable Ernest Troiano, Jr., Mayor, City of Wildwood, 4400 New Jersey Avenue, Wildwood, NJ 08260 | City Hall, 4400 New Jersey Avenue, Wildwood, NJ 08260 | http://www.msc.fema.gov/lomc | January 13, 2014 | 345329
New Mexico:
Bernalillo | City of Albuquerque (13-06-2237P) | The Honorable Richard J. Berry, Mayor, City of Albuquerque, P.O. Box 1293, Albuquerque, NM 87103 | Development and Review Services Division, 600 2nd Street Northwest, Suite 201, Albuquerque, NM 87102 | http://www.rampp-team.com/lomrs.htm | October 3, 2013 | 350002
Bernalillo | City of Albuquerque (13-06-2180P) | The Honorable Richard J. Berry, Mayor, City of Albuquerque, P.O. Box 1293, Albuquerque, NM 87103 | Development and Review Services Division, 600 2nd Street Northwest, Suite 201, Albuquerque, NM 87102 | http://www.msc.fema.gov/lomc | January 6, 2014 | 350002
Oklahoma:
Oklahoma | City of Oklahoma City (13-06-1918P) | The Honorable Mick Cornett, Mayor, City of Oklahoma City, 200 North Walker Avenue, 3rd Floor, Oklahoma City, Oklahoma 73102 | 420 West Main Street, Suite 700, Oklahoma City, Oklahoma 73102 | http://www.msc.fema.gov/lomc | February 6, 2014 | 405378
Osage | Unincorporated areas of Osage County (13-06-2146P) | The Honorable Bob Jackson, Chairman, Osage County Commissioners, 1125 West Main Street, Pawhuska, OK 74056 | Osage County Planning and Zoning, 628 Kihekah Avenue, Pawhuska, OK 74056 | http://www.msc.fema.gov/lomc | December 6, 2013 | 400146
Tulsa | City of Sand Springs (13-06-2146P) | The Honorable Mike L. Burdge, Mayor, City of Sand Springs, P.O. Box 338, Sand Springs, OK 74063 | Public Works Building, 109 North Garfield Avenue, Sand Springs, OK 74063 | http://www.msc.fema.gov/lomc | December 6, 2013 | 400211
Pennsylvania: Centre | Township of Ferguson (13-03-1672P) | Mr. Mark A. Kunkle, Manager, Township of Ferguson, 3147 Research Drive, State College, PA 16801 | Township of Ferguson, 3147 Research Drive, State College, PA 16801 | http://www.msc.fema.gov/lomc | December 26, 2013 | 420260
Texas:
Bexar | City of San Antonio (13-06-3092P) | The Honorable Julian Castro, Mayor, City of San Antonio, P.O. Box 839966, San Antonio, TX 78283 | Department of Public Works, Storm Water Engineering, 1901 South Alamo Street, 2nd Floor, San Antonio, TX 78204 | http://www.msc.fema.gov/lomc | December 19, 2013 | 480045
Bexar | City of San Antonio (13-06-3094P) | The Honorable Julian Castro, Mayor, City of San Antonio, P.O. Box 839966, San Antonio, TX 78283 | Department of Public Works, Storm Water Engineering, 1901 South Alamo Street, 2nd Floor, San Antonio, TX 78204 | http://www.msc.fema.gov/lomc | December 19, 2013 | 480045
Bexar | City of San Antonio (13-06-3687P) | The Honorable Julian Castro, Mayor, City of San Antonio, P.O. Box 839966, San Antonio, TX 78283 | Department of Public Works, Storm Water Engineering, 1901 South Alamo Street, 2nd Floor, San Antonio, TX 78204 | http://www.msc.fema.gov/lomc | February 3, 2014 | 480045
Bexar | City of San Antonio (13-06-3350P) | The Honorable Julian Castro, Mayor, City of San Antonio, P.O. Box 839966, San Antonio, TX 78283 | Department of Public Works, Storm Water Engineering, 1901 South Alamo Street, 2nd Floor, San Antonio, TX 78204 | http://www.msc.fema.gov/lomc | February 10, 2014 | 480045
Bexar | City of Selma (13-06-2603P) | The Honorable Tom Daly, Mayor, City of Selma, 9375 Corporate Drive, Selma, TX 78154 | 9375 Corporate Drive, Selma, TX 78154 | http://www.msc.fema.gov/lomc | December 24, 2013 | 480046
Bexar | Unincorporated areas of Bexar County (13-06-1509P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | January 9, 2014 | 480035
Bexar | Unincorporated areas of Bexar County (13-06-2845P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | February 3, 2014 | 480035
Bexar | Unincorporated areas of Bexar County (13-06-3349P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | February 3, 2014 | 480035
Collin | City of McKinney (13-06-3167P) | The Honorable Brian Loughmiller, Mayor, City of McKinney, P.O. Box 517, McKinney, TX 75070 | 222 North Tennessee Street, McKinney, TX 75069 | http://www.msc.fema.gov/lomc | December 27, 2013 | 480135
Comal | City of New Braunfels (13-06-2315P) | The Honorable Gale Pospisil, Mayor, City of New Braunfels, 424 South Castell Avenue, New Braunfels, TX 78130 | Municipal Building, 424 South Castell Avenue, New Braunfels, TX 78130 | http://www.msc.fema.gov/lomc | November 14, 2013 | 485493
Dallas | City of Garland (13-06-1717P) | The Honorable Douglas Athas, Mayor, City of Garland, 200 North 5th Street, Garland, TX 75040 | Engineering Department, 800 West Main Street, Garland, TX 75040 | http://www.msc.fema.gov/lomc | February 10, 2014 | 485471
Dallas | City of Rowlett (12-06-3599P) | The Honorable Todd Gottel, Mayor, City of Rowlett, 4000 Main Street, Rowlett, TX 75088 | Development Services Building, 3901 Main Street, Rowlett, TX 75088 | http://www.msc.fema.gov/lomc | February 7, 2014 | 480185
Dallas | Town of Highland Park (13-06-1142P) | The Honorable Joel T. Williams, III, Mayor, Town of Highland Park, 4700 Drexel Drive, Dallas, TX 75205 | Public Works Department, 4700 Drexel Drive, Dallas, TX 75205 | http://www.rampp-team.com/lomrs.htm | September 27, 2013 | 480178
Dallas | Town of Highland Park (12-06-3367P) | The Honorable Joel T. Williams, III, Mayor, Town of Highland Park, 4700 Drexel Drive, Dallas, TX 75205 | Public Works Department, 4700 Drexel Drive, Dallas, TX 75205 | http://www.rampp-team.com/lomrs.htm | October 11, 2013 | 480178
Denton | City of Denton (12-06-1709P) | The Honorable Mark A. Burroughs, Mayor, City of Denton, 215 East McKinney Street, Denton, TX 76201 | City Engineering Department, 901-A Texas Street, Denton, TX 76209 | http://www.msc.fema.gov/lomc | November 20, 2013 | 480194
Denton | City of Denton (13-06-2226P) | The Honorable Mark A. Burroughs, Mayor, City of Denton, 215 East McKinney Street, Denton, TX 76201 | 901-A Texas Street, Denton, TX 76209 | http://www.msc.fema.gov/lomc | January 9, 2014 | 480194
Denton | Town of Trophy Club (13-06-1370P) | The Honorable Connie White, Mayor, Town of Trophy Club, 100 Municipal Drive, Trophy Club, TX 76262 | Town Hall, 100 Municipal Drive, Trophy Club, TX 76262 | http://www.msc.fema.gov/lomc | January 3, 2014 | 481606
Denton | Unincorporated areas of Denton County (13-06-1370P) | The Honorable Mary Horn, Denton County Judge, 110 West Hickory Street, 2nd Floor, Denton, TX 76201 | Denton County Planning Department, 1505 East McKinney Street, Suite 175, Denton, TX 76209 | http://www.msc.fema.gov/lomc | January 3, 2014 | 480774
Denton | Unincorporated areas of Denton County (13-06-3201P) | The Honorable Mary Horn, Denton County Judge, 110 West Hickory Street, 2nd Floor, Denton, TX 76201 | Denton County Planning Department, 1505 East McKinney Street, Suite 175, Denton, TX 76209 | http://www.msc.fema.gov/lomc | February 6, 2014 | 480774
Fort Bend and Harris | City of Houston (13-06-1908P) | The Honorable Annise D. Parker, Mayor, City of Houston, P.O. Box 1562, Houston, TX 77251 | Floodplain Management Office, Public Works and Engineering, 1002 Washington Avenue, 3rd Floor, Houston, TX 77002 | http://www.msc.fema.gov/lomc | February 6, 2014 | 480296
Grayson | Unincorporated areas of Grayson County (12-06-3502P) | The Honorable Drue Bynum, Grayson County Judge, 100 West Houston Street, Sherman, TX 75090 | Grayson County Courthouse, 100 West Houston Street, Sherman, TX 75090 | http://www.msc.fema.gov/lomc | February 6, 2014 | 480829
Gregg and Harrison | City of Longview (12-06-0169P) | The Honorable Jay Dean, Mayor, City of Longview, 300 West Cotton Street, Longview, TX 75601 | Development Services Building, 410 South High Street, Longview, TX 75601 | http://www.msc.fema.gov/lomc | January 10, 2014 | 480264
Harris | City of Pearland (13-06-1986P) | The Honorable Tom Reid, Mayor, City of Pearland, 3519 Liberty Drive, Pearland, TX 77581 | 3519 Liberty Drive, Pearland, TX 77581 | http://www.msc.fema.gov/lomc | November 14, 2013 | 480077
Harris | Unincorporated areas of Harris County (12-06-3910P) | The Honorable Ed Emmett, Harris County Judge, 1001 Preston Street, Suite 911, Houston, TX 77002 | Harris County, 10555 Northwest Freeway, Houston, TX 77092 | http://www.msc.fema.gov/lomc | February 6, 2014 | 480287
Hood | Unincorporated areas of Hood County (13-06-2844P) | The Honorable Darrell Cockerham, Hood County Judge, 100 East Pearl Street, Granbury, TX 76048 | Hood County Courthouse, 100 East Pearl Street, Granbury, TX 76048 | http://www.msc.fema.gov/lomc | January 23, 2014 | 480356
Karnes | City of Kenedy (13-06-2112P) | The Honorable Randy Garza, Mayor, City of Kenedy, 303 West Main Street, Kenedy, TX 78119 | 303 West Main Street, Kenedy, TX 78119 | http://www.msc.fema.gov/lomc | January 9, 2014 | 485482
Potter | City of Amarillo (13-06-1845P) | The Honorable Paul Harpole, Mayor, City of Amarillo, P.O. Box 1971, Amarillo, TX 79105 | City Hall, 509 Southeast 7th Avenue, Amarillo, TX 79105 | http://www.msc.fema.gov/lomc | February 3, 2014 | 480529
Rockwall | City of Rockwall (13-06-2096P) | The Honorable David Sweet, Mayor, City of Rockwall, 385 South Goliad Street, Rockwall, TX 75087 | City Hall, 385 South Goliad Street, Rockwall, TX 75087 | http://www.msc.fema.gov/lomc | January 17, 2014 | 480547
Tarrant | City of Forest Hill (13-06-1913P) | The Honorable Gerald Joubert, Mayor, City of Forest Hill, 3219 California Parkway, Forest Hill, TX 76119 | City Hall, 3219 California Parkway, Forest Hill, TX 76119 | http://www.msc.fema.gov/lomc | December 9, 2013 | 480595
Travis | City of Austin (13-06-1777P) | The Honorable Lee Leffingwell, Mayor, City of Austin, P.O. Box 1088, Austin, TX 78767 | Watershed Protection Department, 505 Barton Springs Road, 12th Floor, Austin, TX 78704 | http://www.msc.fema.gov/lomc | December 23, 2013 | 480624
Travis | Unincorporated areas of Travis County (12-06-3962P) | The Honorable Samuel T. Biscoe, Travis County Judge, P.O. Box 1748, Austin, TX 78767 | Travis County Transportation and Natural Resources Department, 700 Lavaca Street, 5th Floor, Suite 540, Austin, TX 78701 | http://www.msc.fema.gov/lomc | December 26, 2013 | 481026
Williamson | City of Leander (12-06-1659P) | The Honorable Chris Fielder, Mayor, City of Leander, 200 West Willis Street, Leander, TX 78641 | City Hall, 200 West Willis Street, Leander, TX 78641 | http://www.msc.fema.gov/lomc | December 2, 2013 | 481536
Virginia:
City of Petersburg | Independent City of Petersburg (13-03-1115P) | The Honorable Brian Moore, Mayor, City of Petersburg, 135 North Union Street, Petersburg, VA 23803 | City Hall Annex, 103 West Tabb Street, Petersburg, VA 23803 | http://www.msc.fema.gov/lomc | January 21, 2014 | 510112
Prince George | Unincorporated areas of Prince George County (13-03-1115P) | The Honorable William A. Robertson, Jr., Chairman, Prince George County Board of Supervisors, 6602 Courts Drive, Prince George, VA 23875 | Prince George County, 6602 Courts Drive, 1st Floor, Prince George, VA 23875 | http://www.msc.fema.gov/lomc | January 21, 2014 | 510204

(Catalog of Federal Domestic Assistance No. 97.022, “Flood Insurance.”)

Dated: November 20, 2013.
Roy E. Wright,
Deputy Associate Administrator for Mitigation, Department of Homeland Security, Federal Emergency Management Agency.

[FR Doc. 2013-29037 Filed 12-3-13; 8:45 am]

BILLING CODE 9110-12-P